ENVIRONMENTAL PROTECTION AGENCY

[EPA-HQ-OAR-2010-0162; FRL-9922-19-OEI]

Information Collection Request Submitted to OMB for Review and Approval; Comment Request; Reporting and Recordkeeping Requirements for Greenhouse Gas Emissions Standards and Fuel Efficiency Standards for Medium- and Heavy-Duty Engines and Vehicles (Renewal)

AGENCY: Environmental Protection Agency (EPA).

ACTION: Notice.

SUMMARY: The Environmental Protection Agency has submitted an information collection request (ICR), “Greenhouse Gas Emissions Standards and Fuel Efficiency Standards for Medium- and Heavy-Duty Engines and Vehicles” (EPA ICR No. 2394.03, OMB Control No. 2060-0678), to the Office of Management and Budget (OMB) for review and approval in accordance with the Paperwork Reduction Act (44 U.S.C. 3501 et seq.). This is a proposed extension of the ICR, which is currently approved through February 28, 2015. Public comments were previously requested via the Federal Register (79 FR 53190) on September 8, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2015.

ADDRESSES: Submit your comments, referencing Docket ID Number No. EPA-HQ-OAR-2010-0162, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Fakhri Hamady, Office of Transportation and Air Quality, Mail Code 6406J, Environmental Protection Agency, 2000 Traverwood Dr., Ann Arbor, MI 48105; telephone number: 734-214-4330; fax number: 734-214-4869; email address: hamady.fakhri@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit http://www.epa.gov/dockets.

Abstract: Under Title II of the Clean Air Act (CAA) (42 U.S.C. 7521 et seq.), EPA issues certificates of conformity for motor vehicle designs and engines that comply with applicable emission standards set under section 202(a)(1) of the CAA, such as those for CO2, N2O, and CH4 in the final regulation. Under 49 U.S.C. 32902, NHTSA is mandated to require manufacturers comply with fuel economy and consumption standards. Manufacturers will submit applications to certify their products and respond to the information collection activities detailed in the HD National Program. They will also submit reports, conduct compliance testing, label certified vehicles, provide final year-end-reports and retain records of information.

Manufacturer test results will be used by EPA to perform confirmatory testing on a sufficient number of engines and vehicles to confirm manufacturer-reported results. EPA's emission certification programs and NHTSA's fuel efficiency programs are statutorily mandated. EPA does not have discretion to cease these functions under Section 206(a) of the CAA (42 U.S.C. 7521).

Form Numbers: None.

Respondents/affected entities: Manufacturers of Medium- and Heavy-Duty Engines and Vehicles; owners of heavy-duty truck fleets.

Respondent's obligation to respond: Mandatory (42 U.S.C. 7521) (40 CFR 1036.730 and 1037.730).

Estimated number of respondents: 34 (total).

Frequency of response: Quarterly, Annually, On Occasion.

Total estimated burden: 41,305 hours (per year). Burden is defined at 5 CFR 1320.03(b)

Total estimated cost: $4,565,145 (per year), includes $1,458,333 annualized capital and operation & maintenance costs.

Changes in Estimates: There is no change of hours in the total estimated burden compared with the ICR currently approved by OMB.

Courtney Kerwin,
Acting Director, Collection Strategies Division.

[FR Doc. 2015-03890 Filed 2-24-15; 8:45 am]

BILLING CODE 6560-50-P